DEPARTMENT OF VETERANS AFFAIRS

38 CFR Part 3

RIN 2900-AN24

Presumptions of Service Connection for Persian Gulf Service; Correction

AGENCY: Department of Veterans Affairs.

ACTION: Correcting amendment.

SUMMARY: The Department of Veterans Affairs (VA) published in the Federal Register of September 29, 2010, a document amending its adjudication regulations concerning presumptive service connection for certain diseases. In the regulatory text of that document, VA inadvertently omitted a comma following the word “etiology” in the first sentence of § 3.317(a)(2)(ii). This document corrects that omission.

DATES: Effective Date: This correction is effective October 5, 2010.

FOR FURTHER INFORMATION CONTACT: William F. Russo, Director of Regulations Management (02REG), Department of Veterans Affairs, 810 Vermont Avenue, NW., Washington, DC 20420, or call (202) 273-9515 (not a toll-free number).

SUPPLEMENTARY INFORMATION: On September 29, 2010, VA published in the Federal Register (75 FR 59968), an amendment to 38 CFR 3.317 to implement a decision of the Secretary of Veterans Affairs that there is a positive association between service in Southwest Asia during certain periods and the subsequent development of certain infectious diseases. In the first sentence of § 3.317(a)(2)(ii), we inadvertently omitted a comma following the word “etiology.” This correction document adds the comma immediately following the word “etiology” in that sentence.

List of Subjects in 38 CFR Part 3

Administrative practice and procedure, Claims, Disability benefits, Health care, Pensions, Radioactive materials, Veterans, Vietnam.

Approved: September 30, 2010.
William F. Russo,
Director, Regulations Management, Office of the General Counsel, Department of Veterans Affairs.

For the reason set out in the preamble, VA is correcting 38 CFR part 3 as follows:

PART 3—ADJUDICATION

1. The authority citation for part 3, subpart A continues to read as follows:

Authority: 38 U.S.C. 501(a), unless otherwise noted.

§ 3.317 [Corrected]

2. In § 3.317, paragraph (a)(2)(ii), first sentence, add a comma immediately after the word “etiology.”

[FR Doc. 2010-24898 Filed 10-4-10; 8:45 am]

BILLING CODE P